OFFICE OF NAVAJO AND HOPI INDIAN RELOCATION

Proposed Information Collection; Comment Request; Application for Relocation Benefits Under the Navajo and Hopi Indian Settlement Act (as Amended)

AGENCY: Office of Navajo and Hopi Indian Relocation (“ONHIR”).

ACTION: Notice.

SUMMARY: ONHIR, as required by the Paperwork Reduction Act of 1995, Public Law 104-13 (44 U.S.C. 3506 (c)(2)(A)), as part of its continuing effort to reduce paperwork and reduce respondent burden, invites the general public and other Federal agencies to take this opportunity to comment on this collection of information.

DATES: Written comments must be submitted on or before December 30, 2009.

Address for Comments: Direct all comments in writing to Diane Pratte, Chief Information Officer, ONHIR, P.O. Box KK, Flagstaff, AZ 86002 (or via the Internet at eligibility@onhir.gov.)

FOR FURTHER INFORMATION CONTACT: Requests for additional information or copies of the information collection instruments and instructions should be directed to ONHIR's Paralegal Specialist Karen Glanz, at 928-779-2721 x 152, or at eligibility@onhir.gov.

SUPPLEMENTARY INFORMATION:

I. Abstract

Submitting an Application for Relocation Benefits (“Application”) ONHIR Form MM#1110.9 (for Navajo individuals) or ONHIR Form MM#1110.10 (for Hopi individuals) to ONHIR is required for all persons seeking such benefits under the Navajo-Hopi Settlement Act, as amended, Public Law 93-531 et al., 25 U.S.C. 640d et seq. (“the Act”). The eligibility requirements are detailed in 25 CFR part 700 and summarized in ONHIR Policy Memorandum No. 14 (7/27/2009 Revision), a copy of which may be requested from ONHIR or found on the ONHIR Web site (onhir.gov, “ONHIR Eligibility” tab.) The information is used to determine whether an applicant is eligible for Relocation Benefits.

II. Method of Collection

Navajo individuals interested in applying for relocation benefits must submit a completed, signed form MM#1110.9, Application for Relocation Benefits (Navajo), to the Office of Navajo and Hopi Indian Relocation. Hopi individuals interested in applying for relocation benefits must submit a completed, signed form MM#1110.10, Application for Relocation Benefits (Hopi), to the Office of Navajo and Hopi Indian Relocation. Documents (Applications) must be signed and executed subject to the penalties for perjury. Signed documents may be hand delivered, mailed (USPS or private delivery service [FedEx, UPS]); faxed or scanned and then e-mailed.

III. Data

Application for Relocation Benefits

Form Numbers: MM #1110.9 and MM1110.10.

Type of Review: Regular submission.

Affected Public: Enrolled members of the Navajo Nation or Hopi Tribe contemplating filing Applications for Relocation Benefits and members of their families.

Estimated Number of Respondents: 500.

Proposed Frequency of Responses: One-time only.

The time needed to complete and file an Application for Relocation Benefits will vary depending on individual circumstances. As provided in 5 CFR § 1320.3(b)(2), the information sought on the Application is information that Applicants can be assumed to have gathered and maintained in the normal course of their lives such as their age, marital status, children and employment and residence history. Consequently it is the Agency's position that the burden involved in completion of an Application would be limited to the time needed to read the Application, fill in the Application form itself and then transmit it to the Agency. The estimated average time is thirty minutes.

(1) Reviewing instructions—10 minutes;

(2) Acquiring, installing, and utilizing technology and systems—0;

(3) Adjusting the existing ways to comply with any previously applicable instructions and requirements—0;

(4) Searching data sources—5 minutes;

(5) Completing and reviewing the collection of information (form)—10 minutes;

(6) Transmitting, or otherwise disclosing the information—5 minutes.

IV. Request for Comments

Comments are invited on: (a) Whether the collection of information is necessary for the proper performance of the functions of the agency, including whether the information shall have practical utility; (b) the accuracy of the agency's estimate of the burden (including hours and cost) of the proposed collection of information; (c) ways to enhance the quality, utility, and clarity of the information to be collected, and (d) ways to minimize the burden of the collection of information on respondents, including through the use of automated collection techniques or other forms of information technology.

Comments submitted in response to this notice will be summarized and/or included in the request for OMB approval of this existing information collection in use without an OMB control number; they also will become a matter of public record.

Dated: October 7, 2009.
Lawrence A. Ruzow,
Alternate Certifying Officer—Attorney, ONHIR.

[FR Doc. E9-24932 Filed 10-15-09; 8:45 am]

BILLING CODE 7560-01-P